NUCLEAR REGULATORY COMMISSION

[NRC-2016-0042]

Memorandum of Understanding Between the U.S. Nuclear Regulatory Commission and the U.S. Department of Homeland Security/Federal Emergency Management Agency

AGENCY: Nuclear Regulatory Commission.

ACTION: Memorandum of understanding; issuance.

SUMMARY: On December 7, 2015, the U.S. Nuclear Regulatory Commission (NRC) and the U.S. Department of Homeland Security (DHS)/Federal Emergency Management Agency (FEMA) entered into a Memorandum of Understanding (MOU) that establishes a framework of cooperation between them in radiological emergency response planning and preparedness matters. The MOU ensures that the agencies' mutual efforts will be directed toward more effective preparedness plans, and related response measures at and in the vicinity of utilization facilities.

DATES: The MOU was effective December 7, 2015.

ADDRESSES: Please refer to Docket ID NRC-2016-0042 when contacting the NRC about the availability of information regarding this document. You may obtain publicly-available information related to this document using any of the following methods:

• Federal Rulemaking Web site: Go to http://www.regulations.gov and search for Docket ID NRC-2016-0042. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The MOU is available in ADAMS under Accession No. ML15344A371.

• NRC's PDR: You may examine and purchase copies of public documents at the NRC's PDR, Room O1-F21, One White Flint North, 11555 Rockville Pike, Rockville, Maryland 20852.

FOR FURTHER INFORMATION CONTACT: Richard Kinard, Office of Nuclear Security and Incident Response, U.S. Nuclear Regulatory Commission, Washington, DC 20555-0001; telephone: 301-287-3768, email: Richard.Kinard@nrc.gov.

SUPPLEMENTARY INFORMATION: As part of the FEMA initiative to amend parts 350-354 of title 44 of the Code of Federal Regulations (CFR), the FEMA/NRC Steering Committee for Emergency Planning determined that the three existing MOUs between the two agencies on radiological emergency preparedness and response should be consolidated into one MOU, resulting in a streamlined, updated agreement reflecting the current process used by the agencies to coordinate their activities. The original MOUs were as follows: (1) “Memorandum of Understanding Between the Federal Emergency Management Agency and the Nuclear Regulatory Commission for Incident Response” (45 FR 82715; December 16, 1980); (2) Memorandum of Understanding for Assistance and Support Between the Federal Emergency Management Agency and the Nuclear Regulatory Commission—relating to Executive Order 12657 (December 1, 1991) (ADAMS Accession No. ML16077A212); and (3) Memorandum of Understanding Between NRC and FEMA Relating to Radiological Emergency Planning and Preparedness (located at Appendix A to 44 CFR part 353) (58 FR 47997; September 14, 1993).

Consolidating the MOUs results in the following revisions: establishes a concise listing of legal authorities; enhances the description of the disaster-initiated review process; eliminates superfluous language on emergency response by referring to existing documentation such as the National Preparedness System and the Nuclear/Radiological Incident Annex; confirms that nothing in the MOU is intended to conflict with current law or regulations or the directives of DHS/FEMA or the NRC, or restrict the authority of either party to act as provided by statute or regulation; includes the interface process between the NRC and FEMA concerning decommissioning plants and the NRC-approved effective date when FEMA Radiological Emergency Preparedness Program services will no longer be needed; and, for consistency with new wording, FEMA intends to include in 44 CFR part 350 the current term “deficiency” with “Level 1 Finding.”

Dated at Rockville, Maryland, this 17th day of March, 2016.
For the Nuclear Regulatory Commission.
Stephanie M. Coffin,
Acting Director, Division of Preparedness and Response, Office of Nuclear Security and Incident Response.

[FR Doc. 2016-06669 Filed 3-23-16; 8:45 am]

BILLING CODE 7590-01-P